NUCLEAR REGULATORY COMMISSION

Draft Regulatory Guide: Issuance, Availability

AGENCY: Nuclear Regulatory Commission.

ACTION: Notice of issuance and availability of Draft Regulatory Guide (DG)-1175.

FOR FURTHER INFORMATION CONTACT: Ching H. Ng, U.S. Nuclear Regulatory Commission, Washington, DC 20555-0001, telephone: (301) 415-8054 or e-mail Ching.Ng@nrc.gov.

SUPPLEMENTARY INFORMATION:

I. Introduction

The U.S. Nuclear Regulatory Commission (NRC) has issued for public comment a draft guide in the agency's “Regulatory Guide” series. This series was developed to describe and make available to the public such information as methods that are acceptable to the NRC staff for implementing specific parts of the NRC's regulations, techniques that the staff uses in evaluating technical information related to specific problems or postulated accidents, and data that the staff needs in its review of applications for permits and licenses.

The draft regulatory guide, entitled, “Seismic Qualification of Electric and Active Mechanical Equipment and Functional Qualification of Active Mechanical Equipment for Nuclear Power Plants,” is temporarily identified by its task number, DG-1175, which should be mentioned in all related correspondence.

The NRC issued Revision 2 of Regulatory Guide 1.100, titled “Seismic Qualification of Electric and Mechanical Equipment for Nuclear Power Plants,” in June 1988. With a few exceptions and clarifications, it endorsed the Institute of Electrical and Electronics Engineers (IEEE) Std 344-1987, “IEEE Recommended Practice for Seismic Qualification of Class 1E Equipment for Nuclear Power Generating Stations,” and extended the application of that standard to the seismic qualification of mechanical equipment. In extending the application of IEEE Std 344-1987 to mechanical equipment, the NRC staff recognized differences in seismic qualification methods for electric equipment (including instrumentation and control (I&C) components) and mechanical equipment. Specifically, Revision 2 of Regulatory Guide 1.100 stated that seismic qualification of mechanical equipment by analysis is permitted when such equipment can be modeled to adequately predict its response. The IEEE has updated IEEE Std 344-1987 and issued it as IEEE Std 344-2004 in June 2005.

Revision 2 also stated that the American Society of Mechanical Engineers (ASME) was developing a standard for seismic qualification of mechanical equipment and, upon publication of that standard, the NRC staff would review it for suitability for endorsement by a revision of Regulatory Guide 1.100. In 1994, the ASME issued a standard, ASME QME-1-1994, “Qualification of Active Mechanical Equipment Used in Nuclear Power Plants.” The ASME QME-1 covers both seismic qualification and functional qualification of active mechanical equipment. The ASME subsequently revised and reissued the standard in 1997, 2000, and 2002, with the last revision issued in November 2007 as ASME QME-1-2007. This is the first time the NRC is endorsing ASME QME-1.

The NRC developed this regulatory guide (i.e., Revision 3) to endorse, with exceptions and clarifications, IEEE Std 344-2004 and ASME QME-1-2007. Specifically, Regulatory Position C.1 of this regulatory guide endorses, with exceptions and clarifications, the entire IEEE Std 344-2004 and Section QR, “General Requirements,” and Nonmandatory Appendix QR-A, “Seismic Qualification of Active Mechanical Equipment,” of ASME QME-1-2007 for the seismic qualification of electric and active mechanical equipment, respectively. Position C.2 of this regulatory guide endorses, with exceptions and clarifications, Section QR and the remaining sections of ASME QME-1-2007 (except Nonmandatory Appendix QR-A) for the functional qualification of active mechanical equipment.

II. Further Information

The NRC staff is soliciting comments on DG-1175. Comments may be accompanied by relevant information or supporting data, and should mention DG-1175 in the subject line. Comments submitted in writing or in electronic form will be made available to the public in their entirety through the NRC's Agencywide Documents Access and Management System (ADAMS). Personal information will not be removed from your comments. You may submit comments by any of the following methods:

1. Mail comments to: Rulemaking, Directives, and Editing Branch, Office of Administration, U.S. Nuclear Regulatory Commission, Washington, DC 20555-0001.

2. E-mail comments to: NRCREP@nrc.gov.

3. Hand-deliver comments to: Rulemaking, Directives, and Editing Branch, Office of Administration, U.S. Nuclear Regulatory Commission, 11555 Rockville Pike, Rockville, Maryland 20852, between 7:30 a.m. and 4:15 p.m. on Federal workdays.

4. Fax comments to: Rulemaking, Directives, and Editing Branch, Office of Administration, U.S. Nuclear Regulatory Commission at (301) 415-5144.

Requests for technical information about DG-1175 may be directed to the NRC Program Manager, Ching H. Ng at (301) 415-8054 or by e-mail at Ching.Ng@nrc.gov.

Comments would be most helpful if received by July 11, 2008. Comments received after that date will be considered if it is practical to do so, but the NRC is able to ensure consideration only for comments received on or before this date. Although a time limit is given, comments and suggestions in connection with items for inclusion in guides currently being developed or improvements in all published guides are encouraged at any time.

Electronic copies of DG-1175 are available through the NRC's public Web site under Draft Regulatory Guides in the “Regulatory Guides” collection of the NRC's Electronic Reading Room at http://www.nrc.gov/reading-rm/doc-collections/. Electronic copies are also available in ADAMS (http://www.nrc.gov/reading-rm/adams.html), under Accession No. ML072620346.

In addition, regulatory guides are available for inspection at the NRC's Public Document Room (PDR), which is located at 11555 Rockville Pike, Rockville, Maryland. The PDR's mailing address is USNRC PDR, Washington, DC 20555-0001. The PDR can also be reached by telephone at (301) 415-4737 or (800) 397-4205, by fax at (301) 415-3548, and by e-mail to PDR@nrc.gov.

Regulatory guides are not copyrighted, and Commission approval is not required to reproduce them.

Dated at Rockville, Maryland, this 20 day of May, 2008.
For the Nuclear Regulatory Commission.
Andrea D. Valentin,
Chief, Regulatory Guide Development Branch, Division of Engineering, Office of Nuclear Regulatory Research.

[FR Doc. E8-11748 Filed 5-23-08; 8:45 am]

BILLING CODE 7590-01-P